DEPARTMENT OF LABOR

Occupational Safety and Health Administration

Maritime Advisory Committee for Occupational Safety and Health; Notice of Meeting

AGENCY: Occupational Safety and Health Administration (OSHA), Labor.

ACTION: Maritime Advisory Committee for Occupational Safety and Health; notice of meeting.

SUMMARY: The Maritime Advisory Committee for Occupational Safety and Health (“MACOSH” or “Committee”) was established to advise the Assistant Secretary of Labor for OSHA on issues relating to occupational safety and health in the maritime industries. The purpose of this Federal Register notice is to announce the MACOSH and workgroup meetings scheduled for May 20-21, 2008.

DATES: The workgroups will meet on May 20, 2008, and MACOSH will meet on May 21, 2008.

ADDRESSES: The Committee and workgroups will meet at the Wyndham Jacksonville Riverwalk Hotel, 1515 Prudential Drive, Jacksonville, FL 32207. The Longshoring workgroup will meet in the Rope Room of the hotel; the other workgroups will meet in the Tug Room of the hotel. MACOSH will meet in the hotel's Port Room. Mail comments, views, or statements in response to this notice to Vanessa L. Welch, Office of Maritime, OSHA, U.S. Department of Labor, Room N-3609, 200 Constitution Avenue, NW., Washington, DC 20210; phone (202) 693-2086; Fax: (202) 693-1663.

FOR FURTHER INFORMATION CONTACT: For general information about MACOSH and this meeting, contact: Joseph V. Daddura, Director, Office of Maritime, OSHA, U.S. Department of Labor, Room N-3609, 200 Constitution Avenue, NW., Washington, DC 20210; phone: (202) 693-2086. Individuals with disabilities wishing to attend the meeting should contact Vanessa L. Welch at (202) 693-2086 no later than May 5, 2008, to obtain appropriate accommodations.

SUPPLEMENTARY INFORMATION: All MACOSH meetings and workgroup meetings are open to the public. All interested persons are invited to attend the MACOSH and workgroup meetings at the times and places listed below.

MACOSH will meet from 8 a.m. until approximately 5 p.m. on Wednesday, May 21, 2008, in the hotel's Port Room.

The Shipyards workgroup will meet on Tuesday, May 20, 2008, from 8 a.m. until 10 a.m. in the Tug Room.

The Longshoring workgroup will meet on Tuesday, May 20, 2008, from 8 a.m. until 10 a.m. in the Rope Room.

The Cranes and Falls workgroup will meet on Tuesday, May 20, 2008, from 10 a.m. until 12 p.m. in the Tug Room.

The Outreach and Safety Culture workgroup will meet on Tuesday, May 20, 2008, from 1 p.m. until 3 p.m. in the Tug Room.

The Health workgroup will meet on Tuesday, May 20, 2008, from 3 p.m. until 4 p.m. in the Tug Room.

The meeting times for each workgroup are approximate and subject to change without advance notice.

MACOSH Agenda: The agenda will include: An OSHA activities update; a review of the minutes from the previous meeting; a review of the achievements of the committee during the last 2 years; and reports from each workgroup. MACOSH may also discuss the following topics based on the workgroup reports: spray paint standards and hot work on coatings; the shipbreaking guidance document; electrical standards; the roll-on roll-off cargo guidance document; the International Maritime Organization's initiative on cargo-lashing safety; the flat-rack guidance document; working over water from aerial work platforms; working under a suspended load; the barge safety guidance document; leading indicators; substance abuse; and radiation exposure in marine terminals.

Public Participation: Written data, views, or comments for consideration by MACOSH on the various agenda items listed above should be submitted to Vanessa L. Welch at the address listed above. Submissions received by May 5, 2008, will be provided to Committee members and will be included in the record of the meeting. Requests to make oral presentations to the Committee may be granted as time permits. Anyone wishing to make an oral presentation to the Committee on any of the agenda items listed above should notify Vanessa L. Welch by May 5, 2008. The request should state the amount of time desired, the capacity in which the person will appear, and a brief outline of the content of the presentation.

Authority: Edwin G. Foulke, Jr., Assistant Secretary of Labor for Occupational Safety and Health, directed the preparation of this notice under the authority granted by sections 6(b)(1) and 7(b) of the Occupational Safety and Health Act of 1970 (29 U.S.C. 655, 656), the Federal Advisory Committee Act (5 U.S.C. App. 2), Secretary of Labor's Order 5-2007 (72 FR 31159), and 29 CFR parts 1911 and 1912.

Signed at Washington, DC, on April 22, 2008.
Edwin G. Foulke, Jr.,
Assistant Secretary of Labor for Occupational Safety and Health.

[FR Doc. E8-9045 Filed 4-24-08; 8:45 am]

BILLING CODE 4510-26-P